SMALL BUSINESS ADMINISTRATION

[Disaster Declaration # 14839 and # 14840]

California Disaster # CA-00252

AGENCY: U.S. Small Business Administration

ACTION: Amendment 1.

SUMMARY: This is an amendment of the Administrative declaration of a disaster for the State of California dated 09/06/2016.

Incident: Soberanes Fire.

Incident Period: 07/22/2016 and continuing through 10/12/2016.

Effective Date: 10/21/2016.

Physical Loan Application Deadline Date: 11/07/2016.

Economic Injury (EIDL) Loan Application Deadline Date: 06/06/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Administrative disaster declaration for the State of California, dated 09/06/2016 is hereby amended to establish the incident period for this disaster as beginning 07/22/2016 and continuing through 10/12/2016.

All other information in the original declaration remains unchanged.

(Catalog of Federal Domestic Assistance Number 59008)

Dated: October 21, 2016.
Maria Contreras-Sweet,
Administrator.

[FR Doc. 2016-26287 Filed 10-31-16; 8:45 am]

BILLING CODE 8025-01-P